AGENCY FOR INTERNATIONAL DEVELOPMENT

Board for International Food and Agricultural Development; Notice of Meeting

Pursuant to the Federal Advisory Committee Act, notice is hereby given of the public meeting of the Board for International Food and Agricultural Development (BIFAD). The meeting will be held from 9:00 a.m. EDT on Tuesday, April 18, 2017 through 5:00 p.m. EDT on Thursday, April 20, 2017, online at https://agrilinks.org/agexchange/aligning-research-investments-global-food-security-strategy-three-day-agexchange.

This public meeting, hosted in partnership with the USAID's Bureau for Food Security, will inform the alignment of research investments to the new Global Food Security Strategy (GFSS). The three-day AgExchange will frame a research agenda around the themes described in the Results Framework of the GFSS, with emphasis on the Strategy's three objectives: Inclusive and sustainable agriculture-led economic growth; a well-nourished population, especially among women and children; and strengthened resilience among people and systems. Dr. Brady Deaton, BIFAD Chair and Chancellor Emeritus of the University of Missouri, along with Dr. Robert Bertram, Chief Scientist, Bureau for Food Security, USAID and Dr. Saharah Moon Chapotin, Deputy Assistant Administrator, Bureau for Food Security, USAID will open the public consultation through a webinar beginning on Tuesday, April 18th at 9:00 a.m. EDT. Throughout this meeting, the Board along with staff of USAID and the broader food security community will moderate discussions and seek input from public and other stakeholders.

A moderated discussion on research prioritization will begin on Tuesday, April 18th at 10:00 a.m. EDT. A moderated discussion on research opportunities around improved nutrition, especially among women and children, will begin on Tuesday, April 18, 2017 at 2:00 p.m. EDT and continue throughout the day. On Wednesday, April 19, 2017, at 9:00 a.m. EDT, a moderated discussion will focus on research opportunities around inclusive and sustainable agriculture-led economic growth and continue throughout the day. Facilitated discussions on Thursday, April 20, 2017, will turn to research opportunities around strengthened resilience among people and systems, beginning at 7:00 a.m. EDT and continuing through 3:30 p.m. EDT. A live audio wrap-up session will begin at 3:30 p.m. EDT on Thursday April 20, 2017 and will provide key takeaways and summary remarks from the discussion over the past three days. At 5:00 p.m. EDT on April 20, 2017, the meeting will conclude but unmoderated online discussions will be available through 5:00 p.m. EDT on Friday, April 21, 2017. The public is invited to comment at any time during these three days of moderated online discussions.

Those wishing to participate in the meeting online should create an account with Agrilinks at https://agrilinks.org by clicking “Join Agrilinks” from the homepage. Agrilinks members can then request access to the discussion through the Agrilinks events page. Those with questions about joining the meeting online should visit the Agrilinks FAQ, which can be found at https://agrilinks.org/faq/#t4746n2100. To obtain additional information about this public meeting or BIFAD, interested parties should contact Clara Cohen, Designated Federal Officer for BIFAD in the Bureau for Food Security at USAID. Interested persons may write to her in care of the U.S. Agency for International Development, Ronald Reagan Building, Bureau for Food Security, 1300 Pennsylvania Avenue NW., Washington, DC 20523-2110 or telephone her at (202) 712-0119.

Clara Cohen,
USAID Designated Federal Officer for BIFAD, Bureau for Food Security, U.S. Agency for International Development.

[FR Doc. 2017-06453 Filed 3-31-17; 8:45 am]

BILLING CODE P